ENVIRONMENTAL PROTECTION AGENCY

[FRL-8281-1]

Science Advisory Board Staff Office; Notification of a Public Teleconference of the Science Advisory Board; Radiation Advisory Committee (RAC)

AGENCY: Environmental Protection Agency (EPA).

ACTION: Notice.

SUMMARY: The EPA Science Advisory Board (SAB) Staff Office announces a public teleconference of the SAB Radiation Advisory Committee (RAC) to discuss its draft advisory regarding EPA's draft White Paper: Modifying EPA Radiation Risk Models Based on BEIR VII, dated August, 2006.

DATES: The SAB RAC will hold a public teleconference on Friday, March 9, 2007 from 11 a.m. to 2 p.m. Eastern Standard Time.

ADDRESSES: Telephone conference call only.

FOR FURTHER INFORMATION CONTACT: Members of the public who wish to obtain the call-in number, access code, and other information for the public teleconference may contact Dr. K. Jack Kooyoomjian, Designated Federal Officer (DFO), by mail at the EPA SAB Staff Office (1400F), U.S. EPA, 1200 Pennsylvania Avenue, NW., Washington, DC 20460; by telephone at (202) 343-9984; by fax at (202) 233-0643; or by e-mail at: kooyoomjian.jack@epa.gov. General information concerning the SAB can be found on the SAB Web site at: http://www.epa.gov/sab.

Technical Contact: For questions and information concerning the Agency's draft document being reviewed, contact Dr. Mary E. Clark, U.S. EPA, ORIA by telephone at (202) 343-9348, fax at (202) 243-2395, or e-mail at: clark.marye@epa.gov.

SUPPLEMENTARY INFORMATION: Background: Pursuant to the Federal Advisory Committee Act (FACA), Public Law 92-463, the SAB Staff Office hereby gives notice of this public teleconference meeting of the SAB RAC. The SAB was established by 42 U.S.C. 4365 to provide independent scientific and technical advice, consultation, and recommendations to the EPA Administrator on the technical basis for Agency positions and regulations. The SAB RAC will comply with the provisions of FACA and all appropriate EPA and SAB procedural policies. The purpose of this teleconference is to discuss a draft advisory being prepared by the SAB RAC concerning the Agency's draft White Paper: Modifying EPA Radiation Risk Models Based on BEIR VII, dated August, 2006.

EPA's Office of Radiation and Indoor Air (ORIA) requested this Advisory to obtain advice from the SAB on the application of BEIR VII, and on issues relating to the modifications and expansions of EPA's methodology for estimating radiogenic cancers. The SAB RAC met via conference call on September 6, 2006, in a face-to-face public meeting in Washington, DC on September 26-28, 2006 (See 71 FR 45545, August 9, 2006); and in public teleconferences on November 28 and December 18, 2006 (See 71 FR 62590, October 26, 2006). The public teleconference announced in this Federal Register notice is a continuation of the meetings, and provides an opportunity for the SAB RAC to deliberate on its draft advisory.

Availability of Teleconference Materials: The teleconference agenda and SAB RAC draft materials will be posted on the SAB Web site at: http://www.epa.gov/sab prior to the teleconference. Additional background information on this review includes the draft White Paper (available at: http://epa.gov/radiation/news/recentadditions.htm) and background materials, such as the BEIR VII document (available at: http://newton.nap.edu/catalog/11340.html#toc).

Procedures for Providing Public Input: Interested members of the public may submit relevant written or oral information for the SAB RAC to consider during the advisory process. Oral Statements: In general, individuals or groups requesting an oral presentation at a public teleconference will be limited to three minutes per speaker with no more than a total of fifteen minutes for all speakers. Interested parties should contact the DFO, contact information provided above, in writing via e-mail seven days prior to the teleconference meeting date. For the Friday, March 9, 2007 teleconference meeting, the deadline is Friday, March 2, 2007 to be placed on the public speaker list. Written Statements: Written statements should be received in the SAB Staff Office seven days prior to the teleconference meeting. For the Friday, March 9, 2007 teleconference meeting, the deadline is Friday, March 2, 2007, so that the information may be made available to the SAB RAC for their consideration. Written statements should be supplied to the DFO in the following formats: one hard copy with original signature, and one electronic copy via e-mail (acceptable file format: Adobe Acrobat, WordPerfect, Word, or Rich Text files in IBM-PC/Windows 98/2000/XP format).

Accessibility: For information on access or services for individuals with disabilities, please contact Dr. K. Jack Kooyoomjian at (202) 343-9984 or kooyoomjian.jack@epa.gov. To request accommodation of a disability, please contact Dr. Kooyoomjian preferably at least 10 days prior to the teleconference, to give EPA as much time as possible to process your request.

Dated: February 16, 2007.
Anthony F. Maciorowski,
Deputy Director, EPA Science Advisory Board Staff Office.

[FR Doc. E7-3208 Filed 2-23-07; 8:45 am]

BILLING CODE 6560-50-P